DEPARTMENT OF THE INTERIOR

Bureau of Land Management

[NM-040-1320-DO]

Notice of Intent To Prepare a Resource Management Plan Amendment and Environmental Assessment and Call for Coal or Other Resource Information

AGENCY: Bureau of Land Management, Department of the Interior.

ACTION: Notice of intent to prepare a Resource Management Plan Amendment (RMPA) and associated Environmental Assessment (EA) for Federal coal resources in Haskell, Latimer, and LeFlore Counties, Oklahoma, and notice of scoping meetings.

SUMMARY: Pursuant to the Federal Land Policy and Management Act (FLPMA) of 1976 and the National Environmental Policy Act (NEPA) of 1969, the Bureau of Land Management (BLM) Oklahoma Field Office will prepare an amendment to the Oklahoma Resource Management Plan (RMP) (1994, as amended 1996) and complete an EA on the amendment for three potential competitive Federal coal lease sales covering lands in Haskell, Latimer, and LeFlore Counties, Oklahoma. The RMPA would evaluate three Lease Application Areas (LAAs) to determine whether they are suitable for further consideration for leasing. The LLAs total approximately 6,883 acres of previously unleased coal and are part of the Federal mineral estate. The RMPA will be prepared under guidance provided through BLM Planning Regulations. This notice is also to solicit coal and other resource information pursuant to 43 CFR 3420.1-2.

This notice formally initiates the public scoping phase to identify issues and review preliminary planning criteria that will help guide the preparation of the RMPA/EA. The BLM will encourage public participation and will begin by conducting two public scoping meetings near the LAAs to solicit input from all concerned parties. The dates, times, and locations for these meetings will be announced in local and regional newspapers. Coal companies, other mineral extraction companies, state and local governments, and the general public are encouraged to submit information to the BLM to assist in the determination of coal development potential and possible conflicts with other resources.

DATES: The scoping comment period will commence with the publication of this notice. Meetings and comment closing dates will be announced through local media, a newsletter, and the BLM Web site: http://www.nm.blm.gov. At least 15 days public notice in local news media will be given for activities where the public is invited to attend.

ADDRESSES: Written comments should be sent to “RMPA/EA COMMENTS,” BLM, Oklahoma Field Office, 7906 East 33rd Street, Tulsa, Oklahoma 74145-1352, Fax: (918) 621-4130. Comments, including the names and street addresses of respondents, will be available for public review at the Oklahoma Field Office during regular business hours, 8 a.m. to 4:30 p.m., Monday through Friday, except holidays, and may be published as part of the RMPA/EA. Individual respondents may request confidentiality. If you wish to withhold your name or address from public disclosure under the Freedom of Information Act, you must state this prominently at the beginning of your written comment. Such requests will be honored to the extent allowed by law. All submissions from organizations or businesses will be available for public inspection in their entirety. The current RMP and all other documents relevant to this planning effort are also available for public review at the Oklahoma Field Office at the address dates and times listed above.

FOR FURTHER INFORMATION CONTACT: For further information and/or to have your name added to our mailing list, contact: Doug Cook, Co-Team Leader, BLM, Oklahoma Field Office, 7906 East 33rd Street, Tulsa, Oklahoma 74145-1352, phone (918) 621-4124 or Keith Tyler, Co-Team Leader, BLM, Oklahoma Field Office, 221 North Service Road, Moore, Oklahoma 73160-4946, phone (405) 790-1015.

SUPPLEMENTARY INFORMATION: In February and June of 2002, BLM received three applications from Farrell-Cooper Mining Company for three competitive coal lease sales for land in Haskell, Latimer, and LeFlore Counties. The sizes and locations of these three LAAs are as follows: (1) Liberty West, 640 acres, in parts of sections 1 and 12, T. 10 N., R. 12 E. in Haskell County; (2) McCurtain, 2,380 acres, in parts of sections 8-11, 14-17, T. 8 N., R. 22 E. in Haskell County; and (3) Bull Hill, 3,863.17 acres, in parts of sections 9-12, T. 5 N., R. 20 E., and in parts of sections 1-3 and 7-10, T. 5 N., R. 21 E. in Latimer County and in parts of sections 4-6, T. 5 N., R. 23 E., sections 31-34, T. 6 N., R. 24 E.; sections 33-36, T. 6 N., R. 23 E. and sections 1-3, T. 5 N., R. 22 E. in LeFlore County. The total 6,883.17 acres of Federal mineral estate is administered by the BLM and the surface is privately owned.

Opportunities for the public to be informed and participate will occur throughout the planning process. To ensure local community participation and input, public scoping meetings will be held in two towns strategically located near the LAAs. Early participation by all interested parties is encouraged and will help guide the planning process and decision. The summary and list of attendees for each meeting will be available to the public and open for 30 days to any participants who wish to clarify their views. The results of scoping will be sent to all of those interested parties on the mailing list for this project in a newsletter or scoping report. BLM personnel have identified preliminary issues and management concerns. Preliminary issues include the following: Access and traffic; public interest/benefits regarding the extraction of the coal; identification of resource values on the private lands; and water quality. Preliminary management concerns include the following: Special status species of plants and animals; maintaining government-to-government relationships with tribal governments; effects of disproportionate impacts on disadvantaged communities resulting from the potential execution of the decision to lease the coal (Environmental Justice Executive Order 12898); potential for spread of noxious weeds; protection of designated streams (Clean Water Act, section 303-d), and application of unsuitability criteria. The public is encouraged to help identify any additional issues, questions, and concerns during the initial scoping phase. Industry and other interested parties are asked to provide any information that will be useful in meeting the Federal Coal Management Program defined in 43 CFR part 3420, including the application of coal planning screens.

Information resulting from this call for information will be used to determine potential for coal development and likelihood of conflict with other resources. Lands already considered in the Oklahoma RMP, adopted in January 1994 and as amended in 1996, need not be addressed.

The issue of Federal coal leasing and development will include:

1. Determining areas acceptable for further coal leasing consideration with standard stipulations;

2. Determining areas acceptable for consideration with special stipulations; and

3. Determining areas unacceptable for further coal leasing consideration. Any individual, business entity, or public body may participate in this process by providing coal or other resource information under this call. Planning criteria will be developed during the initial public scoping early in the process to help guide the planning effort. Preliminary planning criteria being considered by BLM for the planning effort include the following: Recognize valid existing rights; comply with existing law, executive orders, regulations, and BLM policy and program guidance; seek public input; consider adjoining lands to minimize land use conflict when making decisions; consider planning jurisdictions of other Federal agencies and State, local, and tribal governments; develop reasonable and sound alternatives; use current scientific data to evaluate appropriate strategies; analyze socioeconomic effects of alternatives along with the environmental effects; and consider public welfare and safety.

Written comments should address one or more of the following: (1) Issues to be considered, (2) whether the planning criteria are adequate for the issues, (3) feasible and reasonable alternatives to examine, or (4) relevant coal or other resource information having a bearing on the RMPA/EA.

Following the initial scoping phase, BLM will prepare an inventory to determine the existing condition of the environment in the three areas. The resources to be inventoried include air quality, geology, energy and mineral resources, soils, water resources, vegetation, wildlife, special status species, noxious weeds, land use, access, visual resources, noise, social and economic conditions, environmental justice, hazardous materials, and cultural and paleontological resources. A range of reasonable alternatives, including an alternative considering no action as required by NEPA, will be developed and analyzed. Through the comments received during the initial scoping, the public will assist in developing the alternatives. It is anticipated that the RMPA/EA process will require approximately 14 months to complete, resulting in a Decision Record and RMPA being published in spring of 2004.

Dated: February 13, 2003.
Timothy R. Spisak,
Acting State Director.

[FR Doc. 03-9374 Filed 4-16-03; 8:45 am]

BILLING CODE 4310-FB-P